DEPARTMENT OF TRANSPORTATION

Coast Guard

33 CFR Part 117

[CGD01-02-138]

Drawbridge Operation Regulations: Hutchinson River, Eastchester Creek, NY

AGENCY: Coast Guard, DOT.

ACTION: Notice of temporary deviation from regulations.

SUMMARY: The Commander, First Coast Guard District, has issued a temporary deviation from the drawbridge operation regulations for the South Fulton Avenue Bridge, mile 2.9, across Eastchester Creek, at Mount Vernon, New York. Under this temporary deviation the bridge may remain closed to vessel traffic from 7 a.m. on December 11, 2002 through 5 p.m. on December 13, 2002, and from 7 a.m. on December 18, 2002 through 5 p.m. on December 20, 2002. This temporary deviation is necessary to facilitate repairs at the bridge.

DATES: This deviation is effective from December 11, 2002 through December 20, 2002.

FOR FURTHER INFORMATION CONTACT: Joeseph Schmied, Project Officer, First Coast Guard District, at (212) 668-7165.

SUPPLEMENTARY INFORMATION: The South Fulton Avenue Bridge has a vertical clearance in the closed position of 6 feet at mean high water and 13 feet at mean low water. The existing drawbridge operation regulations are listed at 33 CFR 117.793(c).

The bridge owner, Westchester County Department of Public Works, requested a temporary deviation from the drawbridge operation regulations to facilitate necessary maintenance, the replacement of the span limit switches, at the bridge. The bridge must remain in the closed position to perform these repairs. Vessels that can pass under the bridge without a bridge opening may do so at all times.

The Coast Guard coordinated this closure with the mariners who normally use this waterway to help facilitate this necessary bridge repair and to minimize any disruption to the marine transportation system.

Under this temporary deviation the South Fulton Avenue Bridge may remain closed to vessel traffic from 7 a.m. on December 11, 2002 through 5 p.m. on December 13, 2002, and from 7 a.m. on December 18, 2002 through 5 p.m. on December 20, 2002.

This deviation from the operating regulations is authorized under 33 CFR 117.35, and will be performed with all due speed in order to return the bridge to normal operation as soon as possible.

Dated: December 5, 2002.
V.S. Crea,
Rear Admiral, U.S. Coast Guard, Commander, First Coast Guard District.

[FR Doc. 02-31602 Filed 12-13-02; 8:45 am]

BILLING CODE 4910-15-P